DEPARTMENT OF COMMERCE

National Oceanic and Atmospheric Administration

Diamond Alkali Superfund Site, Passaic River, New Jersey: Notice of Availability of and Request for Comments on the Draft Natural Resource Damage Assessment Plan (Draft NRDA Plan)

AGENCY: National Oceanic and Atmospheric Administration (NOAA), Commerce.

SUMMARY: The National Oceanic and Atmospheric Administration (NOAA) and the U.S. Department of the Interior (U.S. DOI), collectively acting as Federal natural resource trustees (Federal Trustees), have concluded their preliminary investigation of potential injuries to natural resources under their trusteeship that may have occurred due to releases of hazardous substances at the Diamond Alkali Superfund Site (Site). Following 43 CFR part 11, the Federal Trustees have prepared a Draft NRDA Plan outlining possible activities at this Site.

FOR FURTHER INFORMATION CONTACT: Through this notice, the public is asked to provide comments on the Draft NRDA Plan within thirty (30) calendar days from the publication date of this notice. Comments can be sent to: U.S. Fish and Wildlife Service, New Jersey Field Office, 927 N. Main Street, Pleasantville, NJ 08232, 609-383-3938 ext 26 or 21, tim_kubiak@fws.gov or melissa_foster@fws.gov.

SUPPLEMENTARY INFORMATION: NOAA, acting as the lead administrative trustee on behalf of itself and the U.S. DOI, have concluded their preliminary investigation of potential injuries to natural resources under their trusteeship that may have occurred as the result of releases of hazardous substances at this Site. Under 43 CFR 11, the Federal Trustees have completed a Preassessment Screen. The agencies serve as Federal Trustees under authority of Subpart G of the National Contingency Plan, 40 CFR Sections 300.600(b)(1-3), and 300.605.

The Federal Trustees decided to pursue an NRDA for this Site, and have issued letters to companies identified as potentially responsible parties (PRPs) in connection with the release of hazardous substances and subsequent damages resulting from potential natural resource injuries (see Federal Register notice, Vol. 72, No. 152, p. 44498, August 9, 2007). The notice letters asked PRPs to participate in the development, performance, and funding of an NRDA.

This Draft NRDA Plan was prepared by the Federal Trustees, and is the next step in the NRDA process. It documents exposure of natural resources to hazardous substances and identifies anticipated procedures for evaluating natural resource injuries potentially caused by such exposure.

The Draft NRDA Plan and related documents may be found at: http://www.darrp.noaa.gov/northeast/passaic/index.html.

Dated: November 13, 2007.
Captain Ken Barton,
Acting Director, Office of Response and Restoration, National Ocean Service, National Oceanic and Atmospheric Administration.

[FR Doc. E7-22712 Filed 11-20-07; 8:45 am]

BILLING CODE 3510-JE-P